NUCLEAR REGULATORY COMMISSION

10 CFR Part 71

[Docket No. PRM-71-13]

Christine O. Gregoire, Governor of the State of Washington; Receipt of Petition for Rulemaking

AGENCY: Nuclear Regulatory Commission.

ACTION: Petition for rulemaking; notice of receipt.

SUMMARY: The Nuclear Regulatory Commission (NRC) is publishing for public comment a notice of receipt of a petition for rulemaking, dated January 25, 2007, which was filed with the Commission by Christine O. Gregoire, Governor of the State of Washington. The petition was docketed by the NRC on March 15, 2007, and has been assigned Docket No. PRM-71-13. The petitioner requests that the NRC adopt the use of global positioning satellite (GPS) tracking as a national requirement for mobile or portable uses of highly radioactive sources. The petitioner states that another alternative is for the Commission to grant states the flexibility to impose more stringent requirements than those required under current NRC regulations.

DATES: Submit comments by July 11, 2007. Comments received after this date will be considered if it is practical to do so, but the Commission is able to assure consideration only for comments received on or before this date.

ADDRESSES: You may submit comments on this petition by any one of the following methods. Please include PRM-71-13 in the subject line of your comments. Comments on petitions submitted in writing or in electronic form will be made available for public inspection. Because your comments will not be edited to remove any identifying or contact information, the NRC cautions you against including any information in your submission that you do not want to be publicly disclosed.

Mail comments to: Secretary, U.S. Nuclear Regulatory Commission, Washington, DC 20555-0001, ATTN: Rulemakings and Adjudications Staff.

E-mail comments to: SECY@nrc.gov. If you do not receive a reply e-mail confirming that we have received your comments, contact us directly at (301) 415-1966. You may also submit comments via the NRC's rulemaking Web site at http://ruleforum.llnl.gov. Address questions about our rulemaking Web site to Carol Gallagher (301) 415-5905; e-mail cag@nrc.gov. Comments can also be submitted via the Federal eRulemaking Portal http://www.regulations.gov.

Hand deliver comments to: 11555 Rockville Pike, Rockville, Maryland 20852, between 7:30 a.m. and 4:15 p.m. Federal workdays. (Telephone (301) 415-1966).

Fax comments to: Secretary, U.S. Nuclear Regulatory Commission at (301) 415-1101.

Publicly available documents related to this petition may be viewed electronically on the public computers located at the NRC's Public Document Room (PDR), Room O1 F21, One White Flint North, 11555 Rockville Pike, Rockville, Maryland. The PDR reproduction contractor will copy documents for a fee. Selected documents, including comments, may be viewed and downloaded electronically via the NRC rulemaking Web site at http://ruleforum.llnl.gov.

Publicly available documents created or received at the NRC after November 1, 1999, are available electronically at the NRC's Electronic Reading Room at http://www.nrc.gov/reading-rm/adams.html. From this site, the public can gain entry into the NRC's Agencywide Document Access and Management System (ADAMS), which provides text and image files of NRC's public documents. If you do not have access to ADAMS or if there are problems in accessing the documents located in ADAMS, contact the PDR Reference staff at 1-800-397-4209, 301-415-4737 or by e-mail to pdr@nrc.gov.

A copy of the petition can be found in ADAMS under accession number ML070810940. A paper copy of the petition may be obtained by contacting Betty Golden, Office of Administration, Nuclear Regulatory Commission, Washington, DC 20555-0001, telephone 301-415-6863, toll-free 1-800-368-5642, or by e-mail bkg2@nrc.gov.

FOR FURTHER INFORMATION CONTACT: Michael T. Lesar, Chief, Rulemaking, Directives and Editing Branch, Division of Administrative Services, Office of Administration, U.S. Nuclear Regulatory Commission, Washington, DC 20555-0001, Telephone: 301-415-7163 or toll-free: 1-800-368-5642.

SUPPLEMENTARY INFORMATION:

Petitioner's Request

The petitioner requests that the NRC adopt the use of global positioning satellite (GPS) tracking as a national requirement for mobile or portable uses of highly radioactive sources. The petitioner also states that an alternative is for the Commission to grant states the flexibility to impose more stringent requirements than those required under current NRC regulations. The petitioner believes that allowing states to do so would clear the way for individual states to set GPS requirements as needed.

Background

The petitioner believes that GPS technology is an effective and relatively inexpensive tool that will help when a vehicle with radioactive material is missing. The petitioner stated that a source in a portable gauge was quickly recovered because the licensee had provided a cellular phone with a GPS tracking feature to its operator. When the operator did not return with the portable gauge, the licensee was able to locate the cell phone, the operator, the truck, and the portable gauge. The petitioner further states that if a device as small as a cell phone can be GPS-enabled, certainly a truck or even a radiography device can be similarly equipped.

The petitioner states that in August 2006, a truck containing an industrial radiography source was stolen in Everett, Washington. The truck and its highly radioactive contents were recovered quickly, but it took significant efforts by Federal, state and local law enforcement agencies. The petitioner further states that this event and a similar occurrence in Garland, Texas, illustrate that better systems are needed to recover stolen vehicles that transport highly radioactive materials. The petitioner notes that the State of Washington cannot require licensees or any other out-of-state licensee to install GPS devices in its vehicles because of the NRC rules on compatibility and the potential effect on interstate commerce. Therefore, the petitioner requests that NRC consider adopting the use of GPS tracking as a national requirement for mobile or portable uses of highly radioactive sources. The petitioner further notes that a possible alterative would be to grant states the flexibility to impose more stringent requirements than those required under current NRC regulations.

The petitioner acknowledges that requiring a GPS on these vehicles does not ensure that the radiological source will be found. However, the petitioner believes that these suggestions would give law enforcement a significant advantage.

Dated at Rockville, Maryland, this 20th day of April 2007.
For the Nuclear Regulatory Commission.
Andrew L. Bates,
Acting Secretary of the Commission.

[FR Doc. E7-8094 Filed 4-26-07; 8:45 am]

BILLING CODE 7590-01-P